DEPARTMENT OF THE INTERIOR

Bureau of Indian Affairs

[234A2100DD/AAKC001030/A0A501010.999900]

Land Acquisitions; the Samish Indian Nation, Washington

AGENCY: Bureau of Indian Affairs, Interior.

ACTION: Notice.

SUMMARY: The Assistant Secretary—Indian Affairs has made a final determination to acquire 39.34 acres, more or less, into trust for the Samish Indian Nation, Washington.

DATES: This final determination was made on April 11, 2023.

FOR FURTHER INFORMATION CONTACT: Carla H. Clark, Bureau of Indian Affairs, Division of Real Estate Services, 1001 Indian School Road NW, Albuquerque, NM 87104, comments@bia.gov, (720) 484-3233.

SUPPLEMENTARY INFORMATION: On the date listed in the DATES section of this notice, the Assistant Secretary—Indian Affairs issued a decision to accept land in trust for the Samish Indian Nation, Washington under the authority of Section 5 of the Indian Reorganization Act of 1934 (48 Stat. 984). The land referred to herein, consisting of 39.34 acres, more or less, is in Skagit County, State of Washington, described as follows:

Legal Description of Property

Parcel Nos.: 20096, 20102, 20103— Campbell Lake North Property

The East ½ of the Southeast ¼ of Section 7, Township 34 North, Range 2 East, W.M.

Except that portion of the Northeast ¼ of the Southeast ¼ lying Northwesterly of the Southeasterly line of State Highway 20 as conveyed by deeds recorded August 23, 1937 in Volume 172 of Deeds, page 489, and September 6, 1938 in Volume 175 of Deeds, page 303, respectively.

Also except that portion conveyed to the State of Washington by Deed recorded June 21, 2007, under Auditor's File No. 200706210066.

Also except Lots A, B and C, Revised Short Plat No. 5-78, approved November 19, 1979 and recorded November 19, 1979 in Volume 3 of Short Plats, page 211, under Auditor's File No. 7911190060.

Also except Lot 1, Short Plat No. 90-50, approved January 10, 1991 and recorded January 11, 1991 in Volume 9 of Short Plats, page 299, under Auditor's File No. 9101110004.

(Said property also known as Lot D, Revised Short Plat No. 5-78, as above described.)

Together with a non-exclusive easement for ingress and egress over the existing gravel drive over that portion of the Southeast ¼ of the Northeast ¼ of said Section 7 more specifically described in that certain Easement Exchange Agreement recorded September 20, 1988, under Auditor's File No. 8809200062.

Except from said Lot “D” of Revised Short Plat No. 5-78, that portion described as follows:

Beginning at a point on the East line of said Section 7, that lies North 0°36′36″ West 492.59 feet from the Southeast corner of said subdivision;

Thence North 88°51′30″ West 268.71 feet;

Thence North 0°36′36″ West 4.62 feet;

Thence North 88°51′30″ West 476.51 feet;

Thence North 0°36′36″ West 1,337.19 feet;

Thence South 88°51′30″ East 745.22 feet to the East line of said Section 7;

Thence South 0°36′36″ East 75 feet, along the East line of said Section 7, to the Northeast corner of Lot “C” of said Short Plat No. 5-78;

Thence North 88°51′30″ West 476.22 feet along the North line to the Northwest corner of said Lot “C”;

Thence South 0°36′36″ East 208.10 feet to the Southwest corner of said Lot “C”;

Thence South 88°51′30″ East 207.51 feet along the South line to the Northwest corner of Lot 1, Short Plat No. 50-90, as recorded in Book 9 of Short Plats, page 299;

Thence South 0°36′36″ East 417.42 feet to the Southwest corner of said Lot 1;

Thence South 88°51′30″ East 268.71 feet along the South line of said Lot 1 to the East line of said Section 7;

Thence South 0°36′36″ East 641.30 feet along said East line to the point of beginning.

(Said last described exception now known as The Craig Short Plat PL00-0677, as recorded December 27, 2002, under Auditor's File No. 200212270096.)

Also except that portion of the East ½ of the Southeast ¼ of Section 7, Township 34 North, Range 2 East, W.M., described as follows:

Beginning at a Point on the East line of said Section 7, that lies North 0°36′36″ West 1834.40 feet from the Southeast corner of said subdivision;

Thence North 88°51′30″ West 745.22 feet;

Thence North 13°14′34″ West 586.94 feet;

Thence North 58°51′29″ East 35.27 feet;

Thence North 49°38′36″ East 246.98 feet;

Thence North 47°39′03″ East 95.93 feet;

Thence South 88°51′30″ East 105.42 feet along the North line of said Southeast ¼ of Section 7;

Thence South 0°36′36″ East 268.13 feet;

Thence South 88°51′30″ East 476.22 feet;

Thence South 0°36′36″ East 549.31 feet to the Point of Beginning.

Authority

This notice is published in the exercise of authority delegated by the Secretary of the Interior to the Assistant Secretary—Indian Affairs by 209 Departmental Manual 8.1 and is published to comply with the requirements of 25 CFR 151.12 (c)(2)(ii) that notice of the decision to acquire land in trust be promptly provided in the Federal Register.

Bryan Newland,
Assistant Secretary—Indian Affairs.

[FR Doc. 2023-07999 Filed 4-14-23; 8:45 am]

BILLING CODE 4337-15-P